SMALL BUSINESS ADMINISTRATION

[Disaster Declaration #15216 and #15217; California Disaster #CA-00274]

Administrative Declaration of a Disaster for the State of California.

AGENCY: U.S. Small Business Administration.

ACTION: Notice.

SUMMARY: This is a notice of an Administrative declaration of a disaster for the State of California.

DATES: Issued on July 27, 2017.

Physical Loan Application Deadline Date: 09/25/2017.

Economic Injury (Eidl) Loan Application Deadline Date: April 27, 2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Dated: 07/27/2017.

Incident: Wall Fire.

Incident Period: 07/07/2017 through 07/17/2017.

The following areas have been determined to be adversely affected by the disaster:

Primary Counties: Butte.

Contiguous Counties:

California: Colusa, Glenn, Plumas, Sutter, Tehama, Yuba.

The Interest Rates are:

| Percent
For Physical Damage:
Homeowners with Credit Available Elsewhere | 3.875
Homeowners without Credit Available Elsewhere | 1.938
Businesses with Credit Available Elsewhere | 6.430
Businesses without Credit Available Elsewhere | 3.215
Non-Profit Organizations with Credit Available Elsewhere | 2.500
Non-Profit Organizations without Credit Available Elsewhere | 2.500
For Economic Injury:
Businesses & Small Agricultural Cooperatives without Credit Available Elsewhere | 3.215
Non-Profit Organizations without Credit Available Elsewhere | 2.500

The number assigned to this disaster for physical damage is 15216 5 and for economic injury is 15217 0.

The State which received an EIDL Declaration # is California.

(Catalog of Federal Domestic Assistance Number 59008)

Dated: July 27, 2017.
Linda E. McMahon,
Administrator.

[FR Doc. 2017-16538 Filed 8-4-17; 8:45 am]

BILLING CODE 8025-01-P